DEPARTMENT OF COMMERCE

National Oceanic and Atmospheric Administration

RIN 0648-XA996

Gulf of Mexico Fishery Management Council (Council); Public Meetings

AGENCY: National Marine Fisheries Service (NMFS), National Oceanic and Atmospheric Administration (NOAA), Commerce.

ACTION: Notice of public meeting.

SUMMARY: The Gulf of Mexico and South Atlantic Fishery Management Councils will convene a meeting of the Ad Hoc Goliath Grouper Joint Council Steering Committee.

DATES: The meeting will convene at 9 a.m. to 4 p.m. EST on Wednesday, February 29, 2012.

ADDRESSES: The meeting will be held at the Gulf of Mexico Fishery Management Council, 2203 North Lois Avenue, Suite 1100, Tampa, FL 33607; telephone: (813) 348-1630.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION: The Ad Hoc Goliath Grouper Joint Council Steering Meeting was formed via motions passed by both the South Atlantic Fishery Management Council and the Gulf of Mexico Fishery Management Council “* * * to explore approaches to move the Goliath Grouper beyond the moratorium and collect information to support an informative assessment that will determination of stock status and possible recovery.” Items to be considered in the agenda are: an overview presentation of previous stock assessments, a discussion on what data will be needed, how these data should be collected, Terms of Reference (TOR) revision, establish a process for a workshop (charge to workshop; timeline), nominations for potential panelists for a workshop, expected products from workshop activities, and a discussion of future activities by the Steering Committee.

Copies of the agenda and other related materials can be obtained by calling (813) 348-1630 or can be downloaded from the Council's ftp site, ftp.gulfcouncil.org.

Although other non-emergency issues not on the agenda may come before the Ad Hoc Goliath Grouper Joint Council Steering Committee for discussion, in accordance with the Magnuson-Stevens Fishery Conservation and Management Act, those issues may not be the subject of formal action during this meeting. Actions of the Ad Hoc Goliath Grouper Joint Council Steering Committee will be restricted to those issues specifically identified in the agenda and any issues arising after publication of this notice that require emergency action under Section 305(c) of the Magnuson-Stevens Fishery Conservation and Management Act, provided the public has been notified of the Councils intent to take action to address the emergency.

Special Accommodations

This meeting is physically accessible to people with disabilities. Requests for sign language interpretation or other auxiliary aids should be directed to Kathy Pereira at the Council (see ADDRESSES) at least 5 working days prior to the meeting.

Dated: February 7, 2012.
Tracey L. Thompson,
Acting Director, Office of Sustainable Fisheries, National Marine Fisheries Service.

[FR Doc. 2012-3137 Filed 2-9-12; 8:45 am]

BILLING CODE 3510-22-P